DEPARTMENT OF DEFENSE

Department of the Navy

[Docket ID USN-2008-0057]

Privacy Act of 1974; System of Records

AGENCY: U.S. Marine Corps, DoD.

ACTION: Notice to add a system of records.

SUMMARY: The U.S. Marine Corps is proposing to add a new system of records notice to its existing inventory of records systems subject to the Privacy Act of 1974, (5 U.S.C. 552a), as amended.

DATES: This proposed action will be effective without further notice on December 12, 2008, unless comments are received which result in a contrary determination.

ADDRESSES: Send comments to Headquarters, U.S. Marine Corps, FOIA/PA Section (ARSF), 2 Navy Annex, Room 3134, Washington, DC 20380-1775.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from the address above.

The proposed system report, as required by 5 U.S.C. 552a, of the Privacy Act of 1974, as amended, was submitted on October 24, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 3, 2008.
Morgan E. Frazier,
Alternate OSD Federal Register Liaison Officer, Department of Defense.

M-01080-1

System Name:

Total Force Administration System Secure Personnel Accountability (TFAS SPA) Records.

System location:

Web servers will be located at Information Systems Management Branch (ARI), Headquarters Marine Corps, #2 Navy Annex, Washington, DC 20380-1775. The Cross Domain Solution (CDS) server will be located at the Defense Information Support Agency (DISA), 701 South Courthouse Road, Arlington, VA 22204-2199.

Categories of individuals covered by the system:

Deployed active duty Marines, as well as DoD members who are under the status of United States Code Title 10 Armed Forces Operational Control (OPCON) and Administrative Control (ADCON) to Marine Force Commands to include Army National Guard, and reserve military service members of the Air Force, Navy, Army, and approved foreign military personnel.

Categories of records in the system:

Deployed service data such as: current location (Country, Area of Operation, Military Grid, Lat/Long, etc.), Title 10 OPCON, Title 10 ADCON, assigned, attached, tenant command relationships; full name, rank, Social Security Number (SSN), date of birth, sex, death date, marital status, citizenship, country code, personnel category code, personnel entitlement condition type code, service, primary occupation code, and pay plan code. The system contains specific unit information (commander name and unit location), for the personnel it tracks.

Authority for maintenance of the system:

10 U.S.C. 5013, Secretary of the Navy; 10 U.S.C. 5041, Headquarters, Marine Corps; CJCSM 3150.13B Joint Reporting Structure—Personnel Manual; Title 10 U.S.C. 136, Uniform Code of Military Justice; and E.O. 9397 (SSN).

Purpose(s):

The TFAS SPA Module provides a tool to implement deployed accountability for all active duty U.S. Marines, as well as DoD members who are Title 10 OPCON to Marine Force Commands to include Army National Guard, and reserve military service members of the Air Force, Navy, Army, and approved foreign military personnel.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To officials and employees of other departments and agencies of the Executive Branch of government, upon request, in the performance of their official duties related to the management of deployed Marine individuals at locations worldwide, as well as officials and investigating bodies for health surveillance purposes.

The ‘Blanket Routine Uses’ that appear at the beginning of the Marine Corps' compilation of systems of records notices also apply to this system. The “Blanket Routine Uses” appear at http://www.privacy.navy.mil/.

Marine Forces delegated Title 10 operational control (OPCON) authority from a U.S. Armed Forces Combatant command. The Office of Secretary of Defense (OSD) has mandated that Marine operational forces are responsible to report the location of all Service Members' classified location under Marine Forces' command worldwide.

Policies and practices for storing, retrieving, accessing, retaining, and disposing of records in the system:

Storage:

Electronic storage media.

Retrievability:

Name and/or Social Security Number and/or Unit.

Safeguards:

Records are maintained in areas only accessible to authorized ARI personnel that are properly screened, cleared, and trained. System software uses a user name and password challenge to lock out unauthorized access. System software contains authorization permission lists and role partitioning to limit access to appropriate organizational level.

Retention and disposal:

The records retention has not been approved by The National Archives and Records Administration, until then treat as permanent.

System Manager and Address:

Policy Official and Records Holder is Director, Manpower Information (MI), 3280 Russell Rd., Quantico, VA 22134-5103.

Notification Procedures:

Individuals seeking to determine whether information about themselves is contained in this system should address written inquiries to Director, Manpower Information (MI), 3280 Russell Rd., Quantico, VA 22134-5103.

Your request must be signed and include your full name and SSN, as well as your complete mailing address.

Record Access Procedures:

Individuals seeking access to information about themselves contained in this system should address written inquiries to Director, Manpower Information (MI), 3280 Russell Rd., Quantico, VA 22134-5103.

Your request must be signed and include your full name and SSN, as well as your complete mailing address.

Contesting record procedures:

The USMC rules for contesting contents and appealing initial agency determinations are published in Secretary of the Navy Instruction 5211.5; Marine Corps Order P5211.2; 32 CFR part 701; or may be obtained from the system manager, Director, Manpower Information (MI), 3280 Russell Rd., Quantico, VA 22134-5103.

Record source categories:

Name, SSN, and associated personnel data is pulled from the Operational Data Store Enterprise (ODSE) and Defense Manpower Data Center (DMDC).

Exemptions claimed for the system:

Information specifically authorized to be classified under E.O. 12958, as implemented by DoD 5200.1-R, may be exempt pursuant to 5 U.S.C. 552(k)(1).

An exemption rule for this system has been promulgated in accordance with requirements of 5 U.S.C. 553(b)(1), (2), and (3), (c) and (e) published in 32 CFR part 701. For additional information contact the system manager.

[FR Doc. E8-26757 Filed 11-10-08; 8:45 am]

BILLING CODE 5001-06-P